DEPARTMENT OF HOUSING AND URBAN DEVELOPMENT

[Docket No. FR-7050-N-40]

30-Day Notice of Proposed Information Collection: Manufactured Housing Installation Program Reporting Requirements OMB Control No.: 2502-0578

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for additional 30 days of public comment.

DATES: Comments Due Date: August 24, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register notice that solicited public comment on the information collection for a period of 60 days was published on April 19, 2022, at 87 FR 23227.

A. Overview of Information Collection

Title of Information Collection: Manufactured Housing Installation Program Reporting Requirements.

OMB Approval Number: 2502-0578.

OMB Expiration Date: July 31, 2022.

Type of Request: Revision of a currently approved collection.

Form Numbers: HUD-305; HUD-306; HUD-307; HUD-308; HUD-309; HUD-312.

Description of the need for the information and proposed use: The Manufactured Housing Installation Program, mandated by the Manufactured Home Construction and Safety Standards Act of 1974, as amended by the Manufactured Housing Improvement Act of 2000, establishes regulations for the implementation and administration of an installation program and establishes a regulatory program for States that choose not to implement their own programs. HUD uses the information collected for the enforcement of the Model Manufactured Home Installation Standards in each State that does not have an installation program established by State law to ensure that the minimum criteria of an installation program are met.

Respondents: Business or other for-profit; State, Local, or Tribal Government; Individuals or households.

Estimated Number of Respondents: 4,072.

Estimated Number of Responses: 388,357.

Frequency of Response: Annually.

Average Hours per Response: 4.

Total Estimated Burdens: 290,523 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2022-15835 Filed 7-22-22; 8:45 am]

BILLING CODE 4210-67-P